DEPARTMENT OF ENERGY

Federal Energy Regulatory Commission

[Docket No. RP02-363-009]

North Baja Pipeline, LLC; Notice of Negotiated Rates

February 4, 2004.

Take notice that on January 30, 2004, North Baja Pipeline, LLC (NBP) tendered for filing to be part of its FERC Gas Tariff, Original Volume No. 1, First Revised Sheet No. 7, to be effective September 1, 2002.

NBP states that this sheet is being filed to correctly reflect an amendment to a negotiated rate agreement with Gasoducto Rosarito, S. de R.L. de C.V. that was executed prior to commencement of service.

NBP further states that a copy of this filing has been served on NBP's jurisdictional customers and interested state regulatory agencies.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-258 Filed 2-11-04; 8:45 am]

BILLING CODE 6717-01-P